DEPARTMENT OF TRANSPORTATION

Federal Highway Administration

Notice To Rescind Notice of Intent To Prepare an Environmental Impact Statement and Draft Environmental Impact Statement: Cape Fear Crossing in Brunswick and New Hanover Counties, NC

AGENCY: Federal Highway Administration (FHWA), DOT.

ACTION: Notice to rescind notice of intent to prepare an Environmental Impact Statement (EIS).

SUMMARY: The FHWA is issuing this notice to advise the public that it is rescinding its Notice of Intent (NOI), published in the Federal Register on May 11, 2006, to prepare an Environmental Impact Statement (EIS) for the Cape Fear Crossing, a proposed multi-lane highway facility in Brunswick and New Hanover Counties, North Carolina. The project was previously known as the Cape Fear Crossing.

FOR FURTHER INFORMATION CONTACT: Clarence W. Coleman, P.E., Director of Preconstruction, Federal Highway Administration, 310 New Bern Avenue, Suite 410, Raleigh, North Carolina 27601-1418, Telephone: (919) 747-7014; or Mr. Chad Kimes, P.E., Division Engineer, Division 3, North Carolina Department of Transportation, 5501 Barbados Blvd., Castle Hayne, NC 28429, Telephone 910-341-2000.

SUPPLEMENTARY INFORMATION: The FHWA, in cooperation with the North Carolina Department of Transportation (NCDOT) and the North Carolina Turnpike Authority (NCTA), issued a notice of intent in May 11, 2006, to prepare an EIS for a proposal to construct a multi-lane highway facility in Brunswick and New Hanover Counties, North Carolina. Known as the Cape Fear Skyway, the proposed improvement would extend from US 17 in Brunswick County, near the community of Bishop, to US 421 in the city of Wilmington for a distance of approximately 9.5 miles. The project would include a crossing of the Cape Fear River. Currently, the project is known as the Cape Fear Crossing project. The purpose of the Cape Fear Crossing is to improve traffic flow and enhance freight movements beginning in the vicinity of US 17 and I-140 in Brunswick County, across the Cape Fear River to US 421 near the Port of Wilmington in southern New Hanover County. The Cape Fear Crossing would also help expedite an evacuation of residents and visitors in the event of a hurricane or other emergency. The FHWA and the NCDOT, in cooperation with the US Army Corps of Engineers, prepared a Draft Environmental Impact Statement (DEIS), which was approved on March 25, 2019. The DEIS was circulated to the public, and a public hearing was held on April 29, 2019. The NCDOT initially considered six different corridors for the project that would have connected US 17 and I-140 in Brunswick County to US 421 near the Port of Wilmington.

On August 13, 2019, the NCDOT published their decision to discontinue planning and preliminary design work on the Cape Fear Crossing highway-bridge project at this time. See: https://www.ncdot.gov/news/press-releases/Pages/2019/2019-08-13-cape-fear-crossing-update.aspx.

Based on NCDOT's decision to discontinue work, FHWA is rescinding the NOI and the March 2019 DEIS. Comments or questions concerning this rescinding notice for the Cape Fear Crossing project, formerly known as Cape Fear Skyway, should be directed to FHWA and NCDOT at the addresses provided above.

(Catalog of Federal Domestic Assistance Program Number 20.205, Highway Planning and Construction. The regulations implementing Executive Order 12372 regarding intergovernmental consultation on Federal programs and activities apply to this program.)

Clarence W. Coleman,
Director of Preconstruction, Raleigh, North Carolina.

[FR Doc. 2020-01864 Filed 1-30-20; 8:45 am]

BILLING CODE 4910-RY-P